DEPARTMENT OF THE INTERIOR

Fish and Wildlife Service

Receipt of an Application and Availability of an Environmental Assessment for an Incidental Take Permit for Urban Development Within the City of Palm Bay, Brevard County, FL

AGENCY: Fish and Wildlife Service, Interior.

ACTION: Notice.

SUMMARY: The City of Palm Bay (Applicant) requests an incidental take permit (ITP) pursuant to section 10(a)(1)(B) of the Endangered Species Act of 1973, as amended (Act). The Applicant prepared a Habitat Conservation Plan (HCP) identifying anticipated impacts to two federally-listed threatened species, the Florida scrub-jay (Aphelocoma coerulescens) (scrub-jay) and the eastern indigo snake (Drymarchon corais couperi). The Applicant also requests incidental take authorization for the gopher tortoise (Gopherus polyphemus) in the event this species becomes federally-listed as either threatened or endangered during the 30-year term of the requested ITP. Take of these species is anticipated as a result of residential, commercial, industrial, and municipal construction projects and associated infrastructure within the city limits of the City of Palm Bay. The Applicant's HCP describes the mitigation and minimization measures proposed to address the effects of urban development on the scrub-jay, eastern indigo snake, and gopher tortoise. These measures are outlined in the SUPPLEMENTARY INFORMATION section below.

DATES: Written comments on the ITP application, HCP, and environmental assessment should be sent to the Service's Regional Office (see ADDRESSES) and should be received on or before October 27, 2006.

ADDRESSES: Persons wishing to review the application, HCP, and environmental assessment may obtain a copy by writing the Service's Southeast Regional Office, 1875 Century Boulevard, Suite 200, Atlanta, Georgia 30345 (Attn: Endangered Species Permits), or Jacksonville Field Office, Fish and Wildlife Service, 6620 Southpoint Drive South, Suite 310, Jacksonville, Florida 32216-0912. Please reference permit number TE118199-0 in such requests. Documents will also be available for public inspection by appointment during normal business hours at the Service's regional office or the Jacksonville field office.

FOR FURTHER INFORMATION CONTACT: Mr. David Dell, Regional HCP Coordinator, (see ADDRESSES above), telephone: 404/679-7313, facsimile: 404/679-7081; or Mr. Mike Jennings, Fish and Wildlife Biologist, Jacksonville Field Office, Jacksonville, Florida (see ADDRESSES above), telephone: 904/232-2580.

SUPPLEMENTARY INFORMATION: If you wish to comment, you may submit written comments by any one of several methods. Please reference permit number TE118199-0 in such comments. You may mail comments to the Service's Regional Office (see ADDRESSES). You may also comment via the Internet to david_dell@fws.gov. Please include your name and return address in your Internet message. If you do not receive a confirmation from us that we have received your internet message, contact us directly at either telephone number listed above (see FOR FURTHER INFORMATION CONTACT). Finally, you may hand deliver comments to either Service office listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The scrub-jay is geographically isolated from other species of scrub-jays found in Mexico and the western United States. The scrub-jay is found exclusively in peninsular Florida and is restricted to xeric uplands (predominately in oak-dominated scrub). Increasing urban and agricultural development has resulted in habitat loss and fragmentation that has adversely affected the distribution and numbers of scrub-jays. The total estimated population is between 7,000 and 11,000 individuals.

The eastern indigo snake is distributed in dry pinelands of the extreme southeastern United States. In peninsular Florida, eastern indigo snakes occur in a variety of upland habitats but are most commonly associated with vegetative communities that occur in well-drained soils. The number and status of eastern indigo snakes in peninsular Florida is not known because reliable survey techniques for this species are not available. Recent population modeling efforts suggest that eastern indigo snake populations are vulnerable to habitat fragmentation related to urban development and greater road densities.

Gopher tortoises are widely distributed throughout the southeastern United States where they are typically found in association with xeric vegetative communities. Gopher tortoises require well-drained soils with relatively deep water tables in which to excavate their burrows. Habitat loss, degradation, and fragmentation due to urban, agricultural, and silvicultural development have resulted in a decline in the numbers and distribution of gopher tortoises throughout Florida.

According to the Applicant's HCP, up to 20 families of scrub-jays, about 40 eastern indigo snakes living within 12,904 acres of potential habitat and about 1,233 gopher tortoises residing in 10,966 acres of potential habitat might be taken as a result of urban development. The Applicant intends to minimize impacts to listed species by: (1) Prohibiting land clearing during the scrub-jay nesting season if active nests are on or near properties to be cleared, (2) requiring that scrub vegetation be retained for landscaping or ornamental purposes within new development, and (3) developing Web-based public education information for the covered species. Mitigation measures proposed by the Applicant include the collection of environmental fees as a component of the local building permit issuance process. The Applicant anticipates that environmental fees collected over the duration of the requested permit period will be approximately $10.7 million dollars. The Applicant proposes to donate environmental fees to the Scrub-jay Conservation Fund that is administered by The Nature Conservancy (TNC). Pursuant to an agreement between the Service and TNC, donated environmental fees will be used for the acquisition, management, and restoration of scrub-jay habitat. The Service will review proposed acquisition, management and restoration of habitat funded by the City's environmental fees to ensure that the eastern indigo snake and gopher tortoise benefit as well.

The Service has made a preliminary determination that issuance of the requested ITP is not a major Federal action significantly affecting the quality of the human environment within the meaning of Section 102(2)(C) of National Environmental Policy Act (NEPA). This preliminary information may be revised due to public comment received in response to this notice and is based on information contained in the EA and HCP.

The Service will evaluate the HCP and comments submitted thereon to determine whether the ITP application meets the requirements of section 10(a) of the Act (16 U.S.C. 1531 et seq.). If the Service determines that those requirements are met, an ITP will be issued for the incidental take of the Florida scrub-jay, eastern indigo snake, and provisionally for the gopher tortoise. The Service will also evaluate whether issuance of this section 10(a)(1)(B) ITP complies with section 7 of the Act by conducting an intra-Service section 7 consultation. The results of this consultation, in combination with the above findings, will be used in the final analysis to determine whether or not to issue the ITP. This notice is provided pursuant to section 10 of the Endangered Species Act and NEPA regulations (40 CFR 1506.6).

Dated: August 9, 2006.
Cynthia K. Dohner,
Acting Regional Director, Southeast Region.

[FR Doc. E6-14245 Filed 8-25-06; 8:45 am]

BILLING CODE 4310-55-P